NUCLEAR REGULATORY COMMISSION

Advisory Committee on Reactor Safeguards Subcommittee Meeting on Thermal-Hydraulic Phenomena; Notice of Meeting

The ACRS Subcommittee on Thermal-Hydraulic Phenomena will hold a meeting on March 19 and 20, 2003, Room T-2B3, 11545 Rockville Pike, Rockville, Maryland.

Portions of the meeting may be closed to public attendance to discuss Westinghouse Electric Company LLC proprietary information per 5 U.S.C. 552b(c)(4).

The agenda for the subject meeting shall be as follows:

Wednesday, March 19, 2003—8:30 a.m. until the conclusion of business.

Thursday, March 20, 2003—8:30 a.m. until the conclusion of business.

The purpose of this meeting is to review thermal-hydraulic issues concerning the design certification of the AP1000 reactor design. The Subcommittee will hear presentations by and hold discussions with representatives of the NRC staff, Westinghouse Electric Company LLC, and other interested persons regarding this matter. The Subcommittee will gather information, analyze relevant issues and facts, and formulate proposed positions and actions, as appropriate, for deliberation by the full Committee.

Members of the public desiring to provide oral statements and/or written comments should notify the Designated Federal Official, Dr. Medhat El-Zeftawy (Telephone: 301-415-6889) or the Cognizant Staff Engineer, Mr. Michael R. Snodderly (Telephone: 301-415-6927) five days prior to the meeting, if possible, so that appropriate arrangements can be made. Electronic recordings will be permitted only during those portions of the meeting that are open to the public.

Further information regarding this meeting can be obtained by contacting the Designated Federal Official or Cognizant Staff Engineer between 7:30 a.m. and 4:15 p.m. (e.t.). Persons planning to attend this meeting are urged to contact one of the above named individuals at least two working days prior to the meeting to be advised of any potential changes to the agenda.

Dated: February 27, 2003.
Sher Bahadur,
Associate Director for Technical Support, ACRS/ACNW.

[FR Doc. 03-5164 Filed 3-4-03; 8:45 am]

BILLING CODE 7590-01-P